DEPARTMENT OF COMMERCE

National Oceanic and Atmospheric Administration

50 CFR Part 600

[I.D. 032001C]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Administrator, Northeast Region, NMFS (Regional Administrator) has made a preliminary determination that the subject exempted fishing permit (EFP) application contains all the required information and warrants further consideration. The Regional Administrator has also made a preliminary determination that the activities authorized under the EFP would be consistent with the goals and objectives of the Monkfish Fishery Management Plan (Monkfish FMP). However, further review and consultation may be necessary before a final determination is made to issue EFPs. Therefore, NMFS announces that the Regional Administrator proposes to issue EFPs that would allow up to 5 vessels to conduct fishing operations otherwise restricted by the regulations governing the fisheries of the Northeastern United States. The vessels would collect biological data using sink gillnets, as well as collect environmental data, which will be used to characterize the blackfin monkfish (Lophius gastrophysus) component of the monkfish fishery off North Carolina and Virginia. A component of this experiment would also report and observe gear interactions in the monkfish gillnet fishery with threatened or endangered sea turtles, marine mammals, and sea birds. Before issuance of the EFPs, NMFS will take the necessary steps to ensure consistency with its obligations under the Endangered Species Act. Regulations under the Magnuson-Stevens Fishery Conservation and Management Act require publication of this notification to provide interested parties the opportunity to comment on applications for proposed EFPs.

DATES: Comments on this action must be received at the appropriate address or fax number (see ADDRESSES) on or before April 25, 2001.

ADDRESSES: Written comments should be sent to Patricia A. Kurkul, Regional Administrator, NMFS, Northeast Regional Office, 1 Blackburn Drive, Gloucester, MA 01930. Mark the outside of the envelope “Comments on EFP Proposal.” Comments may also be sent via facsimile (fax) to (978) 281-9135.

FOR FURTHER INFORMATION CONTACT: Bonnie Van Pelt, Fishery Management Specialist, 978-281-9244.

SUPPLEMENTARY INFORMATION: The North Carolina Department of Environment and Natural Resources Division of Marine Fisheries submitted an application for EFPs on March 5, 2001. The EFPs will facilitate collection of spatial and temporal data that would be used to identify the blackfin monkfish component of the monkfish fishery and the distribution and migration of monkfish off North Carolina and Virginia during the spring and early summer of 2001. The study would occur in waters between Avon, North Carolina and Chincoteague, Virginia, 30 nautical miles seaward of the coast. The purpose of the study is to collect and properly identify the different species of monkfish in the study area to determine the occurrence and relative abundance of blackfin monkfish in the commercial gillnet catch.

The Monkfish FMP is specific for only one species, the American monkfish or goosefish (Lophius americanus), although the fisheries literature identifies two other species, blackfin monkfish (L. gastrophysus) and reticulated goosefish (Lophiodes reticulatus) that may be found in the western central Atlantic (Fischer, 1978). Over the past 2 years, the North Carolina Division of Marine Fisheries (NCDMF) and local fishermen have collected several specimens that have been identified as blackfin monkfish. The proportion of the harvest that is blackfin monkfish is unknown, but this species may comprise up to 10 percent of the catch from the waters off North Carolina and Virginia. Dockside identification of this species, which is difficult at best, is complicated by the common practice of processing at sea and the landing of monkfish tails only, which is allowed under the Monkfish FMP.

Based on the premise that blackfin monkfish may comprise up to 10 percent of the commercial monkfish catch using gillnets, the number of blackfin monkfish that would need to be identified to validate the percent composition of this species is estimated by the applicant to be 2,500 individuals. If blackfin monkfish comprise 10 percent of the catch, the total monkfish catch believed necessary for a statistically valid survey would be 25,000 monkfish. Assuming an average weight of 8 lb (3.6 kg) per fish, the amount of harvest is expected to be approximately 200,000 lb (90.72 mt) of whole monkfish.

The target species expected to be harvested under the EFP are blackfin monkfish and American monkfish. Incidental species expected to be caught in the fishery are skates, rays, and sharks. While the monkfish caught may be sold by participants to defray the costs of the experiment, the landed monkfish must meet the minimum fish size requirements.

Participating vessels will be selected by the applicant based on knowledge of the gillnet fishery for monkfish, familiarity with local fishing methodology, familiarity with the survey area, and possession of monkfish gillnet gear. Up to five vessels would participate in the experiment and would be required to comply with all conditions of the EFP. A weekly trip limit of 7000 lb (3.18 mt) in any given period not to exceed 7 days, will be allowed instead of daily trip limits, as well as an allowance for the limited use of 8-inch (20.32-cm) mesh gillnets in an attempt to select for the smaller blackfin monkfish.

The EFPs would allow up to five vessels to fish 40 monkfish Days-at-Sea (DAS) per vessel, while exempting vessels from the eligibility and permit requirements associated with DAS permits under the Monkfish FMP. In order to ensure that the data collected are not biased by fishing behavior in response to fish movements, exemptions would allow participating vessels to possess and land monkfish in excess of the daily trip limit specified under 50 CFR 648.94(b)(2)(v). In order to obtain data on blackfin monkfish distribution and abundance, a species that is reportedly smaller than the American monkfish (Lophius americanus), the participating vessels may be required to temporarily retain monkfish that are less than the minimum fish size (50 CFR 648.93(a)(1)), and to fish with gear that is less than the minimum gillnet mesh size requirement (50 CFR 648.91(c)(1)(iii)). The experiment will run from the date of issuance of the EFPs through June 30, 2001. However, should additional data collection be necessary beyond this date, the experiment may be extended, but without the monkfish DAS exemption provisions and allowance for exemptions to monkfish landing and possession limits specified under the Monkfish FMP.

Participating vessels would be required to fish in accordance with a sampling plan designed by the applicant, maintain logbooks documenting fishing activities, carry on-board observers trained in blackfin monkfish taxonomy, land all monkfish suspected of being blackfin monkfish in a whole condition to aid in identification, and allow biological information to be collected from the catches. The applicant anticipates up to 10 percent observer coverage. However, given the need for information on gear interactions in the monkfish gillnet fishery with threatened and endangered sea turtles off North Carolina and Virginia, the Regional Administrator is seeking public comment on the appropriate level of observer coverage for this experimental fishery. In addition, the Regional Administrator is also seeking comments on whether all monkfish, regardless of whether they are suspected of being blackfin monkfish, be landed in whole condition for identification purposes.

The applicant recognizes that the monkfish gillnet fishery may be responsible for sea turtle mortality and has formulated a system of area closures triggered by dates, water temperatures, and/or observed sea turtle interactions, to minimize the impact of the experimental fishery on threatened or endangered sea turtles. Five time-specific areas have been established for the experiment to minimize the probability of interactions of threatened or endangered sea turtles with monkfish gillnet gear.

Time-specific Area Closures

EFP participants will be authorized to fish in:

(a) Area 1- North of a line running 090° (M) from Avon, NC, 35° 20′30″ N, to a line running 090° (M) from Chincoteague, VA, 37° 56′00″ N, from March 16 through March 31, 2001;

(b) Area 2- North of a line running 090° (M) from Oregon Inlet, NC, 35° 46′00″ N, to a line running 090° (M) from Chincoteague, VA 37° 56″00″ N from April 1 through April 30, 2001;

(c) Area 3- North of a line running 090° (M) from Currituck Beach Light, NC, 36° 22″30″ N, to a line running 090° (M) from Chincoteague, VA, 37° 56″00″ N, from May 1 through May 31, 2001;

(d) Area 4- North of a line running 090° (M) from Cape Henry, VA, 36° 55″54″ N, to a line running 090° (M) from Chincoteague, VA, 37° 56″00″ N, from June 1 through June 15, 2001; and

(e) Area 5- North of a line running 090° (M) from Wachapreague Inlet, VA, 37° 34′36″ N, to a line running 090° (M) from Chincoteague, VA, 37° 56″00″ N, from June 16 through June 30, 2001.

Should observers or fishermen report surface water temperatures in excess of 60 degrees Fahrenheit for 3 consecutive days within an area, all EFP participants shall move their fishing operations northward to the next time-specific fishing area.

EFPs would be issued to up to five vessels to exempt them from monkfish DAS requirements (as well as other associated permitting and gear marking requirements under the Limited Access Monkfish DAS gillnet fishery), monkfish possession and landing limits, minimum fish size requirement (for data collection only), and minimum gillnet mesh sizes of the Monkfish FMP, found at 50 CFR part 648, subpart F.

Authority: 16 U.S.C. 1801 et seq.

Dated: April 4, 2001
Bruce C. Morehead,
Acting Director, Office of Sustainable Fisheries, National Marine Fisheries Service.

[FR Doc. 01-8814 Filed 4-9-01; 8:45 am]

BILLING CODE 3510-22-S